DEPARTMENT OF THE INTERIOR

Fish and Wildlife Service

Availability of Birds of Conservation Concern 2002

AGENCY: Fish and Wildlife Service, Interior.

ACTION: Notice of availability.

SUMMARY: We are announcing the availability of a document entitled Birds of Conservation Concern 2002. The purpose of this document is to identify species, subspecies, and populations of migratory and non-migratory birds in need of additional conservation actions. The document is published under authority of the Fish and Wildlife Conservation Act of 1980, the Endangered Species Act of 1973, the Fish and Wildlife Act of 1956, and 16 U.S.C. 701.

DATES: Individuals wishing to comment on the process used in developing Birds of Conservation Concern 2002, especially to provide recommendations for improving future versions of the document, may direct their written comments to the Chief, Division of Migratory Bird Management (listed below under ADDRESSES). All comments received will be filed for use in developing the next version of the list. Comments will be accepted up until the time that work begins on the next edition of this report (approximately 5 years).

ADDRESSES: Printed copies of Birds of Conservation 2002 may be obtained by writing to the Chief, Division of Migratory Bird Management, U.S. Fish and Wildlife Service, 4401 North Fairfax Drive, Mail Stop 4107, Arlington, VA 22203-1610, ATTN: BCC 2002. This document is also available for downloading on the Division of Migratory Bird Management's World Wide Web page at http://migratorybirds/fws.gov.

FOR FURTHER INFORMATION CONTACT: Brian Millsap, Chief, Division of Migratory Bird Management, U.S. Fish and Wildlife Service, 4401 North Fairfax Drive, Mail Stop 4107, Arlington, VA 22203-1610; phone: (703) 358-1714; fax: (703) 358-2272.

SUPPLEMENTARY INFORMATION: The 1988 amendment to the Fish and Wildlife Conservation Act (FWCA) of 1980 (Pub. L. 100-653, Title VIII) requires the Secretary of the Interior, through the U.S. Fish and Wildlife Service, to “identify species, subspecies, and populations of all migratory nongame birds that, without additional conservation actions, are likely to become candidates for listing under the Endangered Species Act [ESA] of 1973.” Birds of Conservation Concern 2002 fulfills that mandate, and supersedes Migratory Nongame Birds of Management Concern in the United States: The 1995 List. The current document differs from the 1995 version in that it identifies birds of conservation concern at three different scales: Bird Conservation Regions, U.S. Fish and Wildlife Service Regions, and National. This will maximize flexibility and increase the utility of the document for a variety of users and purposes. The species that appear in Birds of Conservation Concern 2002 are deemed to be the highest priority for conservation actions. We anticipate that the document will be consulted by Federal agencies and their partners prior to undertaking cooperative research, monitoring, and management actions that might directly or indirectly affect migratory birds. Our goal in publishing this document is to stimulate coordinated and collaborative proactive conservation actions among Federal, State, and private partners.

To serve as a broad early warning system in the context of the FWCA, this document includes all of the species for which we have some basis, no matter how remote, to consider them to be of conservation concern. Our objective in publishing this list is to focus conservation attention on bird species of concern well in advance of a possible or plausible need to consider them for listing under the ESA. Inclusion on this list does not constitute a finding that listing under the ESA is warranted, or that substantial information exists to indicate that listing under the ESA may be warranted. Many of the species on this list will probably never have to be considered for ESA listing, even if no additional conservation actions are taken.

Dated: January 30, 2003.
Steven A. Williams,
Director, Fish and Wildlife Service.

[FR Doc. 03-2908 Filed 2-5-03; 8:45 am]

BILLING CODE 4310-55-P